LIBRARY OF CONGRESS

36 CFR Part 704

National Film Preservation Board; 1994-2002 Films Selected for Inclusion in the National Film Registry

AGENCY: National Film Preservation Board, Library of Congress.

ACTION: Final rule.

SUMMARY: The Librarian of Congress is publishing the following list of films selected from 1994-2002 for inclusion in the National Film Registry in the Library of Congress pursuant to section 103 of the National Film Preservation Act of 1996. The films are published to notify the public of the Librarian's selection of twenty-five films selected in each of these years deemed to be “culturally, historically or aesthetically significant” in accordance with Congress' mandate. These 225 new films join the 125 films already selected for inclusion in the Registry under section 203 of the 1992 Act, as well as previously chosen under section 3 of Pub. L. 100-446. The National Film Preservation Act of 1988. The Librarian's goal in administering the Act is to promote the preservation of all genres of film, represented by the diverse list of films selected for inclusion in the Registry, and to generate public interest in film as an art form deserving of preservation.

EFFECTIVE DATE: Date of Publication.

FOR FURTHER INFORMATION CONTACT: Steve Leggett, Staff Coordinator, The National Film Preservation Board. Telephone (202) 707-5912; telefax (202) 707-2371; email: sleg@loc.gov.

SUPPLEMENTARY INFORMATION: On August 9, 1990 (55 FR 32567), the Librarian of Congress published the list of films for 1989 for inclusion in the National Film Registry in the Library of Congress. On December 24, 1990 (55 FR 52844) the Librarian published the list of films for 1990. On September 30, 1991 (56 FR 49413) the Librarian published the list of films for 1991. On July 8, 1994 (59 FR 35034) the Librarian published the list of films for 1992 and 1993, bringing the total to 125 films selected under the 1988 and 1992 Acts. Today, the Librarian publishes the sixth-fourteenth lists of films for inclusion in the National Film Registry—twenty-five additional films selected in each year, 1994-2002, added to the films already selected.

The 1988 Act expired on September 27, 1991. The 1992 Act expired on June 26, 1996. On October 11, 1996, President Clinton signed into law the National Film Preservation Act of 1996, reauthorizing the National Film Preservation Board for an additional seven years. The legislation [section 103(b), 2 U.S.C. 179m] requires the Librarian of Congress, in consultation with his advisory group, the National Film Preservation Board, to select up to twenty-five films per year for inclusion in the Registry. Under the 1996 Act, films are selected on the basis of their cultural, historical or aesthetic significance and they must be at least 10 years old. Films do not need to be feature length nor have had a theatrical release in order to be included.

These broad criteria allow many types of films to be eligible for inclusion in the National Film Registry. In addition, the Librarian's procedures for public participation are intended to allow the public the greatest flexibility in nominating films for inclusion. This is in keeping with the broad goals of the Librarian in administering the National Film Preservation Act to promote preservation of the complete American film heritage and to generate public interest for this cause.

List of Subjects in 36 CFR part 704

Labeling, Libraries, Motion pictures.

Publication of 1994-2002 Film Titles

In consideration of the foregoing, 36 CFR part 704 is amended in the manner set forth below.

PART 704—NATIONAL FILM REGISTRY OF THE LIBRARY OF CONGRESS

1. The authority citation for 36 CFR part 704 continues to read as follows:

Authority: Public Law 104-285, 110 Stat. 3377 (2 U.S.C. 179).

Subpart A—Films Selected for Inclusion in the National Film Registry

2. In subpart A, § 704.25 is added to read as follows:

§ 704.25 Films Selected for Inclusion in the National Film Registry in the Library of Congress for 1994.

(a) The Librarian of Congress, Dr. James H. Billington, after consultation with the National Film Preservation Board, registers these films in the National Film Registry within the Library of Congress for 1994:

(1) The African Queen (1951)

(2) The Apartment (1960)

(3) The Cool World (1963)

(4) A Corner in Wheat (1909)

(5) E.T. The Extra-Terrestrial (1982)

(6) The Exploits of Elaine (1914)

(7) Force of Evil (1948)

(8) Freaks (1932)

(9) Hell's Hinges (1916)

(10) Hospital (1970)

(11) Invasion of the Body Snatchers (1956)

(12) The Lady Eve (1941)

(13) Louisiana Story (1948)

(14) The Manchurian Candidate (1962)

(15) Marty (1955)

(16) Meet Me in St. Louis (1944)

(17) Midnight Cowboy (1969)

(18) A Movie (1958)

(19) Pinocchio (1940)

(20) Safety Last (1923)

(21) Scarface (1932)

(22) Snow White (1933)

(23) Tabu (1931)

(24) Taxi Driver (1976)

(25) Zapruder Film (1963)

(b) In keeping with section 106(a) of the Act, 2 U.S.C. 179(p), the Librarian shall endeavor to obtain an archival quality copy for each of these twenty-five films for the National Film Registry Collection of the Library of Congress.

3. In subpart A, § 704.26 is added to read as follows:

§ 704.26 Films Selected for Inclusion in the National Film Registry in the Library of Congress for 1995.

(a) The Librarian of Congress, Dr. James H. Billington, after consultation with the National Film Preservation Board, registers these films in the National Film Registry within the Library of Congress for 1995:

(1) The Adventures of Robin Hood (1938)

(2) All That Heaven Allows (1955)

(3) American Graffiti (1973)

(4) The Band Wagon (1953)

(5) Blacksmith Scene (1893)

(6) Cabaret (1972)

(7) Chan Is Missing (1982)

(8) The Conversation (1974)

(9) The Day the Earth Stood Still (1951)

(10) El Norte (1983)

(11) Fatty's Tintype Tangle (1915)

(12) The Four Horsemen of the Apocalypse (1921)

(13) Fury (1936)

(14) Gerald McBoing Boing (1951)

(15) The Hospital (1971)

(16) Jammin' the Blues (1944)

(17) The Last of the Mohicans (1920)

(18) Manhatta (1921)

(19) North By Northwest (1959)

(20) The Philadelphia Story (1940)

(21) Rip Van Winkle (1896)

(22) Seventh Heaven (1927)

(23) Stagecoach (1939)

(24) To Fly (1976)

(25) To Kill a Mockingbird (1962)

(b) In keeping with section 106(a) of the Act, 2 U.S.C. 179(p), the Librarian shall endeavor to obtain an archival quality copy for each of these twenty-five films for the National Film Registry Collection of the Library of Congress.

4. In subpart A, § 704.27 is added to read as follows:

§ 704.27 Films Selected for Inclusion in the National Film Registry in the Library of Congress for 1996.

(a) The Librarian of Congress, Dr. James H. Billington, after consultation with the National Film Preservation Board, registers these films in the National Film Registry within the Library of Congress for 1996:

(1) The Awful Truth (1937)

(2) Broken Blossoms (1919)

(3) The Deer Hunter (1978)

(4) Destry Rides Again (1939)

(5) Flash Gordon serial (1936)

(6) The Forgotten Frontier (1931)

(7) Frank Film (1973)

(8) The Graduate (1967)

(9) The Heiress (1949)

(10) The Jazz Singer (1927)

(11) Life and Times of Rosie the Riveter (1980)

(12) M*A*S*H (1970)

(13) Mildred Pierce (1945)

(14) The Outlaw Josey Wales (1976)

(15) The Producers (1968)

(16) Pull My Daisy (1959)

(17) Road to Morocco (1942)

(18) She Done Him Wrong (1933)

(19) Shock Corridor (1963)

(20) Show Boat (1936)

(21) The Thief of Baghdad (1924)

(22) To Be Or Not To Be (1942)

(23) Topaz (1943-45) (home movie footage taken at Japanese American Internment Camp, the Topaz War Relocation Authority Center)

(24) Verbena Tragica (1939)

(25) Woodstock (1970)

(b) In keeping with section 106(a) of the Act, 2 U.S.C. 179(p), the Librarian shall endeavor to obtain an archival quality copy for each of these twenty-five films for the National Film Registry Collection of the Library of Congress.

5. In subpart A, § 704.28 is added to read as follows:

§ 704.28 Films Selected for Inclusion in the National Film Registry in the Library of Congress for 1997.

(a) The Librarian of Congress, Dr. James H. Billington, after consultation with the National Film Preservation Board, registers these films in the National Film Registry within the Library of Congress for 1997:

(1) Ben-Hur (1926)

(2) The Big Sleep (1946)

(3) The Bridge on the River Kwai (1957)

(4) Cops (1922)

(5) Czechoslovakia 1968 (1968)

(6) Grass (1925)

(7) The Great Dictator (1940)

(8) Harold and Maude (1972)

(9) Hindenburg Disaster Newsreel Footage (1937)

(10) How the West Was Won (1962)

(11) The Hustler (1961)

(12) Knute Rockne, All American (1940)

(13) The Life and Death of 9413—A Hollywood Extra (1928)

(14) The Little Fugitive (1953)

(15) Mean Streets (1973)

(16) Motion Painting No. 1 (1947)

(17) The Music Box (1932)

(18) The Naked Spur (1953)

(19) Rear Window (1954)

(20) Republic Steel Strike Riots Newsreel Footage (1937)

(21) Return of the Secaucus 7 (1980)

(22) The Thin Man (1934)

(23) Tulips Shall Grow (1942)

(24) West Side Story (1961)

(25) Wings (1927)

(

(b) In keeping with section 106(a) of the Act, 2 U.S.C. 179(p), the Librarian shall endeavor to obtain an archival quality copy for each of these twenty-five films for the National Film Registry Collection of the Library of Congress.

6. In subpart A, § 704.29 is added to read as follows:

§ 704.29 Films Selected for Inclusion in the National Film Registry in the Library of Congress for 1998.

(a) The Librarian of Congress, Dr. James H. Billington, after consultation with the National Film Preservation Board, registers these films in the National Film Registry within the Library of Congress for 1998:

(1) Bride of Frankenstein (1935)

(2) The City (1939)

(3) Dead Birds (1964)

(4) Don't Look Back (1967)

(5) Easy Rider (1969)

(6) 42nd Street (1933)

(7) From the Manger to the Cross (1912)

(8) Gun Crazy (1949)

(9) The Hitch-Hiker (1953)

(10) The Immigrant (1917)

(11) The Last Picture Show (1972)

(12) Little Miss Marker (1934)

(13) The Lost World (1925)

(14) Modesta (1956)

(15) The Ox-Bow Incident (1943)

(16) Pass the Gravy (1928)

(17) Phantom of the Opera (1925)

(18) Powers of Ten (1978)

(19) The Public Enemy (1931)

(20) Sky High (1922)

(21) Steamboat Willie (1928)

(22) Tacoma Narrows Bridge Collapse (1940)

(23) Tootsie (1982)

(24) Twelve O'Clock High (1949)

(25) “Westinghouse Works, 1904” (1904)

(b) In keeping with section 106(a) of the Act, 2 U.S.C. 179(p), the Librarian shall endeavor to obtain an archival quality copy for each of these twenty-five films for the National Film Registry Collection of the Library of Congress.

7. In subpart A, § 704.30 is added to read as follows:

§ 704.30 Films Selected for Inclusion in the National Film Registry in the Library of Congress for 1999.

(a) The Librarian of Congress, Dr. James H. Billington, after consultation with the National Film Preservation Board, registers these films in the National Film Registry within the Library of Congress for 1999:

(1) Civilization (1916)

(2) Do the Right Thing (1989)

(3) The Docks of New York (1928)

(4) Duck Amuck (1953)

(5) The Emperor Jones (1933)

(6) Gunga Din (1939)

(7) In the Land of the Head-Hunters (1914) aka In the Land of the War Canoes

(8) Jazz on a Summer's Day (1959)

(9) King: A Filmed Record . . . Montgomery to Memphis (1970)

(10) The Kiss (1896)

(11) Kiss Me Deadly (1955)

(12) Lambchops (1929)

(13) Laura (1944)

(14) Master Hands (1936)

(15) My Man Godfrey (1936)

(16) Night of the Living Dead (1968)

(17) The Plow That Broke the Plains (1936)

(18) Raiders of the Lost Ark (1981)

(19) Roman Holiday (1953)

(20) The Shop Around the Corner (1940)

(21) A Streetcar Named Desire (1951)

(22) The Ten Commandments (1956)

(23) Trance and Dance in Bali (1938-39)

(24) The Wild Bunch (1969)

(25) Woman of the Year (1942)

(b) In keeping with section 106(a) of the Act, 2 U.S.C. 179(p), the Librarian shall endeavor to obtain an archival quality copy for each of these twenty-five films for the National Film Registry Collection of the Library of Congress.

8. In subpart A, § 704.31 is added to read as follows:

§ 704.31 Films Selected for Inclusion in the National Film Registry in the Library of Congress for 2000.

(a) The Librarian of Congress, Dr. James H. Billington, after consultation with the National Film Preservation Board, registers these films in the National Film Registry within the Library of Congress for 2000:

(1) Apocalypse Now (1979)

(2) Dracula (1931)

(3) The Fall of the House of Usher (1928)

(4) Five Easy Pieces (1970)

(5) GoodFellas (1990)

(6) Koyaanisqatsi (1983)

(7) The Land Beyond the Sunset (1912)

(8) Let's All Go to the Lobby (1957)

(9) The Life of Emile Zola (1937)

(10) Little Caesar (1930)

(11) The Living Desert (1953)

(12) Love Finds Andy Hardy (1938)

(13) Multiple Sidosis (1970)

(14) Network (1976)

(15) Peter Pan (1924)

(16) Porky in Wackyland (1938)

(17) President McKinley Inauguration Footage (1901)

(18) Regeneration (1915)

(19) Salome (1922)

(20) Shaft (1971)

(21) Sherman's March (1986)

(22) A Star is Born (1954)

(23) The Tall T (1957)

(24) Why We Fight (series) (1943-45)

(25) Will Success Spoil Rock Hunter? (1957)

(b) In keeping with section 106(a) of the Act, 2 U.S.C. 179(p), the Librarian shall endeavor to obtain an archival quality copy for each of these twenty-five films for the National Film Registry Collection of the Library of Congress.

9. In subpart A, § 704.32 is added to read as follows:

§ 704.32 Films Selected for Inclusion in the National Film Registry in the Library of Congress for 2001.

(a) The Librarian of Congress, Dr. James H. Billington, after consultation with the National Film Preservation Board, registers these films in the National Film Registry within the Library of Congress for 2001:

(1) Abbott and Costello Meet Frankenstein (1948)

(2) All That Jazz (1979)

(3) All the King's Men (1949)

(4) America, America (1963)

(5) Cologne: From the Diary of Ray and Esther (1939)

(6) Evidence of the Film (1913)

(7) Hoosiers (1986)

(8) The House in the Middle (1954)

(9) It (1927)

(10) Jam Session (1942)

(11) Jaws (1975)

(12) Manhattan (1979)

(13) Marian Anderson: The Lincoln Memorial Concert (1939)

(14) Memphis Belle (1944)

(15) The Miracle of Morgan's Creek (1944)

(16) Miss Lulu Bett (1921)

(17) National Lampoon's Animal House (1978)

(18) Planet of the Apes (1968)

(19) Rose Hobart (1936)

(20) Serene Velocity (1970)

(21) The Sound of Music (1965)

(22) Stormy Weather (1943)

(23) The Tell-Tale Heart (1953)

(24) The Thin Blue Line (1988)

(25) The Thing From Another World (1951)

(b) In keeping with section 106(a) of the Act, 2 U.S.C. 179(p), the Librarian shall endeavor to obtain an archival quality copy for each of these twenty-five films for the National Film Registry Collection of the Library of Congress.

10. In subpart A, § 704.33 is added to read as follows:

§ 704.33 Films Selected for Inclusion in the National Film Registry in the Library of Congress for 2002.

(a) The Librarian of Congress, Dr. James H. Billington, after consultation with the National Film Preservation Board, registers these films in the National Film Registry within the Library of Congress for 2002:

(1) Alien (1979)

(2) All My Babies (1953)

(3) The Bad and the Beautiful (1952)

(4) Beauty and the Beast (1991)

(5) The Black Stallion (1979)

(6) Boyz N the Hood (1991)

(7) Theodore Case Sound Test: Gus Visser and his Singing Duck (1925)

(8) The Endless Summer (1966)

(9) From Here to Eternity (1953)

(10) From Stump to Ship (1930)

(11) Fuji (1974)

(12) In the Heat of the Night (1967)

(13) Lady Windermere's Fan (1925)

(14) Melody Ranch (1940)

(15) The Pearl (1948)

(16) Punch Drunks (1934)

(17) Sabrina (1954)

(18) Star Theatre (1901)

(19) Stranger Than Paradise (1984)

(20) This is Cinerama (1952)

(21) This is Spinal Tap (1984)

(22) Through Navajo Eyes (series) (1966)

(23) Why Man Creates (1968)

(24) Wild and Wooly (1917)

(25) Wild River (1960)

(b) In keeping with section 106(a) of the Act, 2 U.S.C. 179(p), the Librarian shall endeavor to obtain an archival quality copy for each of these twenty-five films for the National Film Registry Collection of the Library of Congress.

James H. Billington,
The Librarian of Congress.

[FR Doc. 03-5958 Filed 3-12-03; 8:45 am]

BILLING CODE 1410-34-P